DEPARTMENT OF STATE

22 CFR Part 22

[Public Notice 3248]

Schedule of Fees for Consular Services, Department of State and Overseas Embassies and Consulates

AGENCY: Bureau of Consular Affairs, State Department.

ACTION: Proposed rule.

SUMMARY: This rule proposes to amend the Schedule of Fees for Consular Services. Specifically, it establishes a fee for the review of the Affidavit of Support, form I-864, when submitted in support of an application for immigration to the United States.

DATES: Written comments must be received on or before April 12, 2000.

ADDRESSES: Interested persons are invited to submit comments in duplicate to: Office of the Executive Director, Bureau of Consular Affairs, Department of State, Washington, D.C. 20520-4818; telefax (202) 647-3677.

FOR FURTHER INFORMATION CONTACT: Alcy Frelick, Office of the Executive Director, Bureau of Consular Affairs, Department of State; telefax (202) 647-3677; email address frelickar@state.gov.

SUPPLEMENTARY INFORMATION:

Background Authority To Assess Fees

Public Law 106-113, enacted November 29, 1999, authorizes the Secretary of State to charge and retain a fee for the processing of a sponsor's Affidavit of Support (I-864). The Secretary of State is also authorized under E.O. 10718 of June 27, 1957, to exercise the President's authority under 22 U.S.C. 4219 to prescribe the fees to be charged for official services performed by the Department of State. This authority has been delegated to the Undersecretary for Management. The Schedule of Fees for Consular Services is set forth in 22 CFR 22.1, as amended on December 1, 1999 (64 FR 66769). After an initial review of the costs, the fee for processing has been set initially at $50 per sponsor filing an Affidavit of Support, form I-864.

The Affidavit of Support Processing Fee

This rule amends the Schedule of Fees for Consular Services by adding a new item 61. “Affidavit of Support Processing Fee.” It establishes a fee for document review and for providing processing assistance for the Affidavit of Support form, I-864, to any sponsor or joint sponsor who provides an Affidavit of Support under section 213A of the Immigration and Nationality Act (8 U.S.C. 1183a) for an immigrant visa applicant to cover the estimated cost of its services. This fee will be used by the Department of State in assisting sponsors to properly complete such affidavit before it is forwarded to a consular post for adjudication by a consular officer in connection with an application for an immigrant visa. This fee will be in addition to, and separate from, any fee imposed for immigrant visa application processing and issuance. The new fee, which will be reviewed in light of experience, will recover only the costs of services related to assisting the sponsor or joint sponsor in completing the Affidavit of Support and in reviewing the documents for technical completeness; those costs are not recovered by the immigrant visa application processing and issuance fees.

This new fee will be charged only once to a sponsor or joint sponsor who files essentially duplicative Affidavits of Support in connection with immigrant visa applications for the spouse, parents and children of a petitioner who is required by the Immigration and Nationality Act to petition separately for them. No new fee will be assessed for essentially duplicative Affidavits of Support filed in support of additional members of one family, made up of parents and minor unmarried children, even if each member of the family is being processed individually for immigration to the United States or if the family member may have had a separate immigrant visa petition filed on his/her behalf.

The Department will assess one fee for each distinct Affidavit of Support (I-864) filed, whether it is filed by the primary sponsor or by a joint sponsor. If more than one Affidavit of Support is needed to fulfil the requirements of the law, the Department will assess one fee for each separate Affidavit of Support. A new fee will be assessed if a new Affidavit of Support is required in support of any application for immigration. (For example, if an additional Affidavit of Support would be needed from a joint sponsor for an application which has been rejected due to Section 212(a)(4), inability to qualify under the public charge provision of the Immigration Act). The fee is non-refundable as it is a processing fee.

The Department does not consider this rule to be a major rule for purposes of E.O. 12291. These changes to the regulations are hereby certified as not expected to have a significant impact on a substantial number of small entities under the criteria of the Regulatory Flexibility Act, 5 U.S.C. 605(b). In addition, pursuant to the Small Business Regulatory Fairness Act (U.S.C. Chapter 8), the Department has screened the Rule and determines that it is not a “major rule,” as defined in 5 U.S.C. 804(2). This rule does not impose information collection requirements under the provisions of the Paperwork Reduction Act, 44 U.S.C., Chapter 35. In accordance with Executive Order 12612, it is determined that this rule does not have sufficient federalism implications to warrant the preparation of a Federalism Assessment. Nor does the rule have federalism implications warranting the application of Executive Order No. 12372 and No.13132. This rule is exempt from E.O. 12866, but the Department has reviewed the rule to ensure consistency with the objectives of the Executive Order, as well as with E.O. 12988, and the Office of Management and Budget has determined this rule would not constitute a significant regulatory action under E.O. 12866. This rule will not result in the expenditure by State, local and tribal governments, in the aggregate, or by the private sector, of $100,000 or more in any one year, and it will not significantly or uniquely affect small governments. Therefore, no actions were deemed necessary under the provisions of the Unfunded Mandates Reform Act of 1995 (2 U.S.C. 1501 et seq.) and Executive Order 12875.

This amendment is proposed to take effect June 1, 2000.

Proposed Rule

List of Subjects in 22 CFR Part 22

Passports and visas, Schedule of Consular Fees.

Accordingly, this rule proposes to amend 22 CFR part 22 as follows:

PART 22—[AMENDED]

1. The authority citation for part 22 continues to read as follows:

Authority: 8 U.S.C. 1153 note, 1351, 1351 note; 10 U.S.C. 214, 2504(a), 4201, 4206, 4215, 4219; 31 U.S.C. 9701; E.O. 10718, 22 FR 4632, 3 CFR, 1954-1958 Comp., p.382; E.O. 11295, 31 FR 10603, 3 CFR, 1966-1970 Comp., p. 570.

2. In Section 22.1, by adding item 61. to read as follows:

§ 22.1 Schedule of fees.

Item No. | Fee
* * * * *
61. Affidavit of Support Processing Fee: | $50.000
* * * * *

Dated: March 6, 2000.
Bonnie R. Cohen,
Under Secretary for Management.

[FR Doc. 00-6100 Filed 3-10-00; 8:45 am]

BILLING CODE 4710-06-P